DEPARTMENT OF COMMERCE

National Oceanic and Atmospheric Administration

RIN 0648-BD68

Fisheries of the Caribbean, Gulf of Mexico, and South Atlantic; Amendment 28 to the Fishery Management Plan for the Reef Fish Resources of the Gulf of Mexico

AGENCY: National Marine Fisheries Service (NMFS), National Oceanic and Atmospheric Administration (NOAA), Commerce.

ACTION: Notice of intent (NOI) to prepare a draft environmental impact statement (DEIS); scoping; request for comments.

SUMMARY: NMFS, Southeast Region, in collaboration with the Gulf of Mexico Fishery Management Council (Council) intends to prepare a DEIS to describe and analyze management alternatives to be included in Amendment 28 to the Fishery Management Plan (FMP) for the Reef Fish Resources of the Gulf of Mexico (Amendment 28). These alternatives will consider measures to reallocate red snapper resources between the commercial and recreational sectors with the purpose of increasing the net benefits and the stability of the red snapper component of the reef fish fishery. The purpose of this NOI is to solicit public comments on the scope of issues to be addressed in the DEIS.

DATES: Written comments on the scope of issues to be addressed in the DEIS must be received by NMFS by December 9, 2013.

ADDRESSES: You may submit comments on Amendment 28 identified by “NOAA-NMFS-2013-0146” by any of the following methods:

• Electronic submissions: Submit electronic comments via the Federal e-Rulemaking Portal: http://www.regulations.gov. Go to www.regulations.gov/#!docketDetail;D=NOAA-NMFS-2013-0146, click the “Comment Now!” icon, complete the required fields, and enter or attach your comments.

• Mail: Submit written comments to Peter Hood, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Peter Hood, Southeast Regional Office, telephone: (727) 824-5305; or email: peter.hood@noaa.gov.

SUPPLEMENTARY INFORMATION: Beginning in 2006, the Council expressed its intent to evaluate and possibly adjust the allocation of reef fish resources between the commercial and recreational sectors. Amendment 28 was initially developed by the Council to address changes in the allocation of grouper species, but the Council put this amendment on hold while they developed a fishery allocation policy consistent with NOAA's Catch Share Policy. For both Amendment 28 and the Council's catch share policy, public input was solicited at Council meetings.

When the Council started discussing Amendment 28 again in October 2012, the Council added red snapper to the species to be considered. In February 2013, the Council determined this amendment should focus solely on red snapper allocation to address shortened recreational season lengths and recreational quota overages. The Council decided the purpose of Amendment 28 is to consider changes to the commercial and recreational red snapper allocations to increase the net benefits from red snapper fishing and increase the stability of the red snapper component of the reef fish fishery, particularly for the recreational sector that has experienced progressively shorter seasons. The Council also recognized that the resulting reallocation among the sectors must distribute benefits expected from red snapper resources in a fair and equitable manner. The need for the proposed action, as stated by the Council, is to prevent overfishing while achieving the optimum yield, particularly with respect to food production and recreational opportunities, while rebuilding the red snapper stock.

After considering the economic analyses conducted by NMFS, the loss of fishing opportunities by the recreational sector due to shorter fishing seasons, and public comments provided at Council meetings, the Council concluded that increasing the allocation of red snapper to the commercial sector would not meet the purpose and need of Amendment 28. Therefore, the Council intends to consider alternatives that would increase the recreational sector's allocation to more than the current 49 percent. Alternatives within Amendment 28 include a “no action” alternative where the current 51 percent commercial to 49 percent recreational allocation remains unchanged. Additionally, Amendment 28 also contains alternatives that shift allocation to the recreational sector by the amount of 3 percent, 5 percent, or 10 percent from the commercial to the recreational sector. Finally, Amendment 28 contains alternatives that shift either 100 percent or 75 percent of any total combined commercial and recreational quota in excess of 9.12 million lb (4.137 million kg) to the recreational sector. This harvest level, 9.12 million lb (4.137 million kg), was considered a baseline by the Council because it is the total allowable catch the commercial and recreational red snapper quotas were based on prior to the revised rebuilding plan implemented through Amendment 27 to the FMP. The combined 2013 commercial and recreational quotas currently equal 11.0 million lb (5.0 million kg).

At the February 2013 meeting, the Council postponed further development of Amendment 28 until the 2013 red snapper stock assessment was completed. The Southeast Data, Assessment, and Review (SEDAR) benchmark assessment for Gulf red snapper (SEDAR 31), was completed in June 2013, and the Council has discussed and heard public comments on Amendment 28 at the June 2013 and August 2013 meetings.

NMFS, in collaboration with the Council, will develop a DEIS to describe and analyze alternatives to address the management needs described above including the “no action” alternative. In accordance with NOAA's Administrative Order 216-6, Section 5.02(c), Scoping Process, NMFS, in collaboration with the Council, has identified preliminary environmental issues as a means to initiate discussion for scoping purposes only. The public is invited to provide written comments on the preliminary issues, which are identified as actions and alternative in the Amendment 28 draft options paper and action guide. These preliminary issues may not represent the full range of issues that eventually will be evaluated in the DEIS. A copy of the Amendment 28 draft options paper and action guide are available at http://sero.nmfs.noaa.gov/sustainable_fisheries/gulf_fisheries/reef_fish/index.html.

After the DEIS associated with Amendment 28 is completed, it will be filed with the Environmental Protection Agency (EPA). After filing, the EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

NMFS will announce, through a document published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: November 4, 2013.
Kelly Denit,
Acting Deputy Director, Office of Sustainable Fisheries, National Marine Fisheries Service.

[FR Doc. 2013-26768 Filed 11-6-13; 8:45 am]

BILLING CODE 3510-22-P